DEPARTMENT OF COMMERCE

Bureau of Industry and Security

Meeting With Interested Public on the Proposed Rule: Revisions and Clarification of Export and Reexport Controls for the People's Republic of China (PRC); New Authorization Validated End-User

ACTION: Notice.

SUMMARY: The Bureau of Industry and Security (BIS) will hold a meeting on July 17, 2006 for those companies, organizations, and individuals that have an interest in understanding the United States' revised policy for exports and reexports of dual-use items to the People's Republic of China (PRC) as presented in the proposed rule published in the Federal Register on July 6, 2006. U.S. Government officials will explain the amendments proposed in the rule and answer questions from the public.

DATES: The meeting will be held on July 17, 2006 at 2 p.m.

ADDRESSES: The meeting will be held at the U.S. Department of Commerce, Herbert C. Hoover Building, Main Auditorium, 14th Street between Pennsylvania Avenue and Constitution Avenue, NW., Washington, DC.

FOR FURTHER INFORMATION CONTACT: In order for BIS to prepare for those who plan to attend the meeting, please provide your name and company or organizational affiliation to fax number (202) 482-4094, Attn: China Policy Briefing. For further information, please contact Judith Peterson at BIS on (202) 482-0092.

Status: This meeting will be open to the public.

SUPPLEMENTARY INFORMATION:

Background

On July 6, 2006, the Bureau of Industry and Security published a rule in the Federal Register that proposed amendments to the Export Administration Regulations (EAR) that would revise and clarify the United States' policy for exports and reexports of dual-use items to the People's Republic of China (PRC). Specifically, the proposed rule states that it is the policy of the United States Government to prevent exports that would make a material contribution to the military capability of the PRC, while facilitating U.S. exports to legitimate civil end-users in the PRC. Consistent with this policy, BIS proposes to amend the EAR by revising and clarifying United States licensing requirements and licensing policy on exports and reexports of goods and technology to the PRC.

The proposed amendments include a revision to the licensing review policy for items controlled on the Commerce Control List (CCL) for reasons of national security, including a new control based on knowledge of a military end-use on exports to the PRC of certain CCL items that otherwise do not require a license to the PRC. The items subject to this license requirement will be set forth in a list. This rule further proposes to revise the licensing review policy for items controlled for reasons of chemical and biological proliferation, nuclear nonproliferation, and missile technology for export to the PRC, requiring that applications involving such items be reviewed in conjunction with the revised national security licensing policy.

This rule proposes the creation of a new authorization for validated end-users in certain destinations, including the PRC, to whom certain, specified items may be exported or reexported. Such validated end-users would be placed on a list in the EAR after review and approval by the United States Government.

Finally, this rule proposes to require exporters to obtain End-User Certificates, issued by the PRC Ministry of Commerce, for all items that both require a license to the PRC for any reason and exceed a total value of $5,000. The current PRC End-Use Certificate applies only to items controlled for national security reasons. This rule also proposes to eliminate the current requirement that exporters submit PRC End-User Certificates to BIS with their license applications but provides that they must retain them for five years.

Bernard Kritzer,
Acting Deputy Assistant Secretary for Export Administration.

[FR Doc. E6-10753 Filed 7-10-06; 8:45 am]

BILLING CODE 3510-33-P